DEPARTMENT OF THE TREASURY

Agency Information Collection Activities; Submission for OMB Review; Comment Request; U.S. Income Tax Return for Individual Taxpayers

AGENCY: Departmental Offices, Department of the Treasury.

ACTION: Notice.

SUMMARY: The Internal Revenue Service, as part of its continuing effort to reduce paperwork and respondent burden, invites the public and other Federal agencies to take this opportunity to comment on proposed and/or continuing information collections, as required by the Paperwork Reduction Act of 1995. Currently, the IRS is soliciting comments concerning the burden associated with the U.S. Income Tax Return Forms for Individual Taxpayers.

DATES: Comments should be received on or before January 18, 2023 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Internal Revenue Service (IRS)

Title: U.S. Income Tax Return for Individual Taxpayers.

OMB Control Number: 1545-0074.

Form Number: Form 1040 and affiliated return forms.

Abstract: IRC sections 6011 & 6012 of the Internal Revenue Code require individuals to prepare and file income tax returns annually. These forms and related schedules are used by individuals to report their income subject to tax and compute their correct tax liability. This information collection request (ICR) covers the actual reporting burden associated with preparing and submitting the prescribed return forms, by individuals required to file Form 1040 and any of its' affiliated forms as explained in the attached table.

Current Actions: There have been changes in regulatory guidance related to various forms approved under this approval package during the past year. Additionally, there have been additions and removals of some forms included in this approval package. The number of estimated filers for FY22 has been increased based on data on the number of Tax Year 2021 Form 1040 filings and IRS models have been updated to account for macroeconomic inputs such as inflation. Overall, updated tax return data adjustments result in a slightly lower average time burden per response and a slightly higher out-of-pocket cost per response.

Affected Public: Individuals or households.

Estimated Number of Respondents: 172,600,000.

Total Estimated Time: 2.211 billion hours (2,211,000,000 hours).

Estimated Time per Respondent: 12.81 hours.

Total Estimated Monetized Time: $42.460 billion ($42,460,000,000).

Estimated Monetized Time per Respondent: $246.

Total Estimated Out-of-Pocket Costs: $42.972 billion ($42,972,000,000).

Estimated Out-of-Pocket Cost per Respondent: $249.

Total Monetized Burden Costs: $85.432 billion ($85,432,000,000).

Estimated Total Monetized Burden per Respondent: $495.

Estimated Average Taxpayer Burden for Individuals Filing a 1040 By Activity
Primary form filed or type of taxpayer | Primary form filed or type of taxpayer: Percentage of returns | Time burden: Average time burden (hours) *: Total time | Time burden: Average time burden (hours) *: Record keeping | Time burden: Average time burden (hours) *: Tax planning | Time burden: Average time burden (hours) *: Form completion and submission | Time burden: Average time burden (hours) *: All other | Money burden: Average cost (dollars) | Money burden: Total monetized burden (dollars)
All Taxpayers | 100 | 13 | 6 | 2 | 4 | 1 | $250 | $500
Type of Taxpayer:
Nonbusiness ** | 72 | 8 | 3 | 1 | 3 | 1 | 140 | 280
Business *** | 28 | 25 | 12 | 5 | 6 | 2 | 530 | 1,060
Note: This table does not include 1040NR, 1040NR-EZ, and 1040X filers.
* Detail may not add to total due to rounding. Hours are rounded to nearest hour. Dollars rounded to the nearest $10.
** A “nonbusiness” filer does not file any of these schedules or forms with Form 1040.
*** A “business” filer files one or more of the following with Form 1040: Schedule C, C-EZ, E, F, Form 2106, or 2106-EZ.
Source: RAAS:KDA (11-21-2022).

Taxpayer Burden Statistics by Total Positive Income Quintile
| Average time (hours) | Average out-of-pocket costs | Average total monetized burden
All Filers
Total positive income quintiles
0 to 20 | 7.3 | $76 | $136
20 to 40 | 10.9 | 126 | 233
40 to 60 | 11.6 | 162 | 313
60 to 80 | 13.1 | 226 | 457
80 to 100 | 21.6 | 664 | 1,351
Wage and Investment Filers
Total Income Decile:
0 to 20 | 6.2 | 65 | 115
20 to 40 | 8.9 | 109 | 200
40 to 60 | 8.6 | 133 | 256
60 to 80 | 8.5 | 173 | 348
80 to 100 | 9.8 | 298 | 651
Self Employed Filers
Total Income Decile:
0 to 20 | 13.4 | 132 | 243
20 to 40 | 20.3 | 204 | 388
40 to 60 | 22.4 | 261 | 513
60 to 80 | 23.0 | 341 | 694
80 to 100 | 31.7 | 978 | 1,952
Source: RAAS:KDA (11-21-2022).

Authority: 44 U.S.C. 3501 et seq.

Spencer W. Clark,
Treasury PRA Clearance Officer.

[FR Doc. 2022-27468 Filed 12-16-22; 8:45 am]

BILLING CODE 4810-25-P